DEPARTMENT OF TRANSPORTATION

Federal Aviation Administration

14 CFR Part 39

[Docket No. FAA-2025-0013; Project Identifier MCAI-2024-00375-A]

RIN 2120-AA64

Airworthiness Directives; Piaggio Aviation S.p.A. Airplanes

AGENCY: Federal Aviation Administration (FAA), DOT.

ACTION: Notice of proposed rulemaking (NPRM).

SUMMARY: The FAA proposes to supersede Airworthiness Directive (AD) 2023-25-03, which applies to certain Piaggio Aviation S.p.A. (Piaggio) Model P-180 airplanes. AD 2023-25-03 requires a one-time detailed inspection of the horizontal stabilizer (HS) central box for corrosion; an assessment of the corrosion level; and depending on the determination, repetitive detailed inspections of the HS central box for corrosion and the internal composite structure for surface cracks, distortion, and damage; and repair or replacement of the HS assembly. Repair or replacement of the HS assembly is terminating action for the repetitive inspections. Since the FAA issued AD 2023-25-03, it was determined that AD 2023-25-03 imposed an unintended restriction that is not in the mandatory continuing airworthiness information (MCAI). This proposed AD would retain certain actions of AD-2023-25-03 and would remove the unintended restriction. The FAA is proposing this AD to address the unsafe condition on these products.

DATES: The FAA must receive comments on this NPRM by March 17, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0013; or in person at Docket Operations between 9 a.m. and 5 p.m., Monday through Friday, except Federal holidays. The AD docket contains this NPRM, the MCAI, any comments received, and other information. The street address for Docket Operations is listed above.

Material Incorporated by Reference:

• For Piaggio material identified in this proposed AD, contact Piaggio Aviation S.p.A., P180 Customer Support, via Pionieri e Aviatori d'Italia, snc—16154 Genoa, Italy; phone: +39 331 679 74 93; email: technicalsupport@piaggioaerospace.it.

• You may view this material at the FAA, Airworthiness Products Section, Operational Safety Branch, 901 Locust, Kansas City, MO 64106. For information on the availability of this material at the FAA, call (817) 222-5110.

FOR FURTHER INFORMATION CONTACT: William McCully, Aviation Safety Engineer, FAA, 1600 Stewart Avenue, Suite 410, Westbury, NY 11590; phone: (404) 474-5548; email: william.mccully@faa.gov.

SUPPLEMENTARY INFORMATION:

Comments Invited

The FAA invites you to send any written relevant data, views, or arguments about this proposal. Send your comments to an address listed under ADDRESSES. Include “Docket No. FAA-2025-0013; Project Identifier MCAI-2024-00375-A” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to William McCully, Aviation Safety Engineer, FAA, 1600 Stewart Avenue, Suite 410, Westbury, NY 11590. Any commentary that the FAA receives which is not specifically designated as CBI will be placed in the public docket for this rulemaking.

Background

The FAA issued AD 2023-25-03, Amendment 39-22630 (88 FR 90085, December 29, 2023) (AD 2023-25-03), for certain Piaggio Model P-180 airplanes.

AD 2023-25-03 was prompted by MCAI originated by the European Union Aviation Safety Agency (EASA), which is the Technical Agent for the Member States of the European Union. EASA issued EASA AD 2023-0007, dated January 13, 2023 (EASA AD 2023-0007, also referred to as the MCAI) to correct an unsafe condition identified as a finding of corrosion inside the HS central box of a Piaggio Model P-180 airplane during scheduled maintenance. A subsequent investigation and inspection of 16 other Piaggio Model P-180 airplanes of various configurations and ages revealed that corrosion of differing levels of severity was found on various aluminum alloy reinforcements in the HS central box of all the inspected airplanes. The MCAI also states that this corrosion was caused by the formation of a humid environment inside the HS central box, from water ingress and/or condensation. Further investigation revealed that airplanes left in prolonged inactivity or parked outside are more prone to develop corrosion damage.

AD 2023-25-03 requires a one-time detailed inspection of the HS central box for corrosion; an assessment of the corrosion level; and depending on the determination, repetitive detailed inspections of the HS central box for corrosion and the internal composite structure for surface cracks, distortion, and damage; and repair or replacement of the HS assembly. Repair or replacement of the HS assembly is terminating action for the repetitive inspections. The FAA issued AD 2023-25-03 to address corrosion on various aluminum alloy reinforcements in the HS central box caused by a humid environment inside the box from water ingress and/or condensation.

Actions Since AD 2023-25-03 Was Issued

Since the FAA issued AD 2023-25-03, it was determined that a portion of paragraph (g)(4)(ii) of that AD includes an unintended requirement to replace the HS assembly after 660 hours time-in-service (TIS) or 13 months, whichever occurs first, following a finding of level 2 corrosion.

You may examine the MCAI in the AD docket at regulations.gov under Docket No. FAA-2025-0013.

Material Incorporated by Reference Under 1 CFR Part 51

This proposed AD would require Piaggio Aerospace Service Bulletin 80-0489, Revision 2, dated November 30, 2022, which the Director of the Federal Register approved for incorporation by reference as of February 2, 2024 (88 FR 90085, December 29, 2023).

This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI and material referenced above. The FAA is issuing this NPRM after determining that the unsafe condition described previously is likely to exist or develop on other products of the same type design.

Proposed AD Requirements in This NPRM

This proposed AD retains all the actions of AD-2023-05 except for the requirement to replace the HS assembly after 660 hours TIS or 13 months, whichever occurs first, following a finding of level 2 corrosion. This proposed AD would also require accomplishing the actions specified in the material already described except as discussed under “Differences Between this Proposed AD and the MCAI.”

Differences Between This Proposed AD and the MCAI

The MCAI requires contacting the manufacturer for a determination of the corrosion level if any corrosion is found during the initial inspection of the HS central box, and if it is determined that level 2 or 3 corrosion is present, having the manufacturer provide the threshold and intervals for doing repetitive inspections of the HS central box. This proposed AD would require contacting either the FAA, EASA, or Piaggio's EASA Design Organization Approval (DOA). If approved by the DOA, the approval must include the DOA-authorized signature.

Although Piaggio Aerospace Service Bulletin 80-0489, Revision 2, dated November 30, 2022, specifies to record the image of the location of corroded areas, this proposed AD would not require that action.

Costs of Compliance

The FAA estimates that this AD, if adopted as proposed, would affect 102 airplanes of U.S. registry.

The FAA estimates the following costs to comply with this proposed AD:

Estimated Costs
Action | Labor cost | Parts cost | Cost per product | Cost on U.S. operators
Initial inspection of HS central box for corrosion | 6 work-hours × $85 per hour = $510 | $0 | $510 | $52,020

On-Condition Costs
Action | Labor cost | Parts cost | Cost per product
Repetitive inspections of HS central box for corrosion | 6 work-hours × $85 per hour = $510, per inspection cycle | $0 | $510, per inspection cycle.
Repetitive inspections for surface cracks, distortion, and damage | 6 work-hours × $85 per hour = $510, per inspection cycle | $0 | $510, per inspection cycle.
Replace HS assembly | 10 work-hours × $85 per hour = $850 | $150,000 | $150,850.

The repair of the HS assembly that may be required as a result of any inspection could vary significantly from airplane to airplane. The FAA has no data to determine the costs to accomplish the repair or the number of airplanes that may require the repair.

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive AD 2023-25-03, Amendment 39-22630 (88 FR 90085, December 29, 2023); and

b. Adding the following new airworthiness directive:

Piaggio Aviation S.p.A.: Docket No. FAA-2025-0013; Project Identifier MCAI-2024-00375-A.

(a) Comments Due Date

The FAA must receive comments on this airworthiness directive (AD) by March 17, 2025.

(b) Affected ADs

This AD replaces AD 2023-25-03, Amendment 39-22630 (88 FR 90085, December 29, 2023).

(c) Applicability

This AD applies to Piaggio Aviation S.p.A. Model P-180 airplanes, serial numbers (S/Ns) 1002, 1004 through 1234 inclusive, 3001 through 3012 inclusive, and 3016, certificated in any category.

(d) Subject

Joint Aircraft System Component (JASC) Code 5510, Horizontal Stabilizer Structure.

(e) Unsafe Condition

This AD was prompted by a report of corrosion on the various aluminum alloy reinforcements in the horizontal stabilizer (HS) central box caused by a humid environment inside the box from water ingress and/or condensation. The FAA is issuing this AD to address this condition. The unsafe condition, if not addressed, could result in reduced structural integrity of the HS and loss of control of the airplane.

(f) Compliance

Comply with this AD within the compliance times specified, unless already done.

(g) Required Actions

(1) Within the applicable compliance time specified in table 1 to paragraph (g)(1) of this AD, do a detailed inspection of the HS central box for corrosion, in accordance with step (8), of Part A, of the Accomplishment Instructions in Piaggio Aerospace Service Bulletin 80-0489, Revision 2, dated November 30, 2022 (Piaggio SB 80-0489, Revision 2), except you are not required to record any images.

Table 1 to Paragraph (g)(1)—HS Central Box One Time Inspection
P-180 Serial number | Compliance time (hours time-in-service (TIS) or calendar time, whichever occurs first after February 2, 2024 (the effective date of AD 2023-25-03))
1002; and 1034 through 3016 inclusive | Within 220 hours TIS or 13 months after February 2, 2024 (the effective date of AD 2023-25-03).
1004 through 1033 inclusive | Within 320 hours TIS or 13 months after February 2, 2024 (the effective date of AD 2023-25-03).

(2) If, during the inspection required by paragraph (g)(1) of this AD, any corrosion is detected, before next flight, contact either the Manager, International Validation Branch, FAA; European Union Aviation Safety Agency (EASA); or Piaggio's EASA Design Organization Approval (DOA), for an assessment of the corrosion level (level 1, 2, or 3).

Note 1 to paragraph (g)(2): Appendix 1, Inspection Results Form, in Piaggio SB 80-0489, Revision 2, may be used when contacting the FAA, EASA, or Piaggio's EASA DOA.

(3) If level 1 corrosion is found during the inspection required by paragraph (g)(1) of this AD, no further action is required by this AD.

(4) If level 2 corrosion is found during the inspection required by paragraph (g)(1) of this AD, do the action in either paragraph (g)(4)(i) or (ii) of this AD.

(i) Before further flight, replace the HS assembly or repair the HS assembly in accordance with instructions from either the Manager, International Validation Branch, FAA; EASA; or Piaggio's EASA DOA. If approved by the DOA, the approval must include the DOA-authorized signature.

(ii) Within 400 hours TIS or 12 months, whichever occurs first after the inspection required by paragraph (g)(1) of this AD, and thereafter at intervals not to exceed 400 hours TIS or 12 months, whichever occurs first after the most recent inspection, repeat the inspection required by paragraph (g)(1) of this AD. In addition, inspect the internal composite structure of the HS central box for surface cracks, distortion, and damage. After each repetitive inspection, before further flight, assess the inspection findings as required by paragraph (g)(2) of this AD. If it is determined that the level 2 corrosion has worsened since the last inspection; or if any surface cracks, distortion, or damage is found during any inspection; before further flight, replace the HS assembly or repair the HS assembly in accordance with instructions from either the Manager, International Validation Branch, FAA; EASA; or Piaggio's EASA DOA. If approved by the DOA, the approval must include the DOA-authorized signature. These inspections must be repeated at intervals not to exceed 400 hours TIS or 12 months, whichever occurs first after the most recent inspection.

(5) If level 3 corrosion is found during the inspection required by paragraph (g)(1) of this AD, do the actions required by paragraph (g)(5)(i) or (ii) of this AD.

(i) Before further flight after the inspection required by paragraph (g)(1) of this AD, replace the HS assembly or repair the HS assembly in accordance with instructions from either the Manager, International Validation Branch, FAA; EASA; or Piaggio's EASA DOA. If approved by the DOA, the approval must include the DOA-authorized signature.

(ii) Within 200 hours TIS or 6 months, whichever occurs first after the inspection required by paragraph (g)(1) of this AD, and thereafter at intervals not to exceed 200 hours TIS or 6 months, whichever occurs first after the most recent inspection, repeat the inspection required by paragraph (g)(1) of this AD. In addition, inspect the internal composite structure of the HS central box for surface cracks, distortion, and damage. After each repetitive inspection, before further flight, assess the inspection findings as required by paragraph (g)(2) of this AD. If it is determined that the level 3 corrosion has worsened since the last inspection; or if any surface cracks, distortion, or damage is found; before further flight, replace the HS assembly or repair the HS assembly in accordance with instructions from either the Manager, International Validation Branch, FAA; EASA; or Piaggio's EASA DOA. If approved by the DOA, the approval must include the DOA-authorized signature. These inspections must be repeated at intervals not to exceed 200 hours TIS or 6 months, whichever occurs first after the most recent inspection, until a maximum of 660 hours TIS or 13 months, whichever occurs first after the inspection required by paragraph (g)(1) of this AD, at which time the HS assembly must be repaired or replaced.

(6) Repair or replacement of the HS assembly is terminating action for the repetitive inspections required by paragraphs (g)(4)(ii) and (g)(5)(ii) of this AD.

(h) Credit for Previous Actions

You may take credit for the actions required by paragraphs (g)(1) through (5) of this AD if you performed those actions before the effective date of this AD using Piaggio Aerospace Service Bulletin 80-0489, Revision 1, dated May 13, 2022.

(i) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, mail it to the address identified in paragraph (j) of this AD or email to: AMOC@faa.gov. If mailing information, also submit information by email. Before using any approved AMOC, notify your appropriate principal inspector, or lacking a principal inspector, the manager of the local flight standards district office/certificate holding district office.

(j) Additional Information

For more information about this AD, contact William McCully, Aviation Safety Engineer, FAA, 1600 Stewart Avenue, Suite 410, Westbury, NY 11590; phone: (404) 474-5548; email: william.mccully@faa.gov.

(k) Material Incorporated by Reference

(1) The Director of the Federal Register approved the incorporation by reference (IBR) of the material listed in this paragraph under 5 U.S.C. 552(a) and 1 CFR part 51.

(2) You must use this material as applicable to do the actions required by this AD, unless the AD specifies otherwise.

(3) The following material was approved for IBR on February 2, 2024 (88 FR 90085, December 29, 2023).

(i) Piaggio Aerospace Service Bulletin 80-0489, Revision 2, dated November 30, 2022.

(ii) [Reserved]

(4) For Piaggio material identified in this AD, contact Piaggio Aviation S.p.A., P180 Customer Support, via Pionieri e Aviatori d'Italia, snc—16154 Genoa, Italy; phone: +39 331 679 74 93; email: technicalsupport@piaggioaerospace.it.

(5) You may view this material at the FAA, Airworthiness Products Section, Operational Safety Branch, 901 Locust, Kansas City, MO 64106. For information on the availability of this material at the FAA, call (817) 222-5110.

(6) You may view this material at the National Archives and Records Administration (NARA). For information on the availability of this material at NARA, visit www.archives.gov/federal-register/cfr/ibr-locations or email fr.inspection@nara.gov.

Issued on January 24, 2025.
Victor Wicklund,
Deputy Director, Compliance & Airworthiness Division, Aircraft Certification Service.

[FR Doc. 2025-01968 Filed 1-29-25; 8:45 am]

BILLING CODE 4910-13-P